FEDERAL COMMUNICATIONS COMMISSION

47 CFR Part 25

[IB Docket No. 97-95; FCC 10-186]

Allocation and Designation of Spectrum for Fixed-Satellite Services in the 37.5-38.5 GHz, 40.5-41.5 GHz and 48.2-50.2 GHz Frequency Bands

AGENCY: Federal Communications Commission.

ACTION: Proposed rule; correction.

SUMMARY: The Federal Communications Commission published a document in the Federal Register of November 22, 2010, concerning a request for comment on technical rules for satellite systems in the 37.5-42.5 GHz band. The document contained incorrect proceeding numbers and incorrect language regarding the filing of comments on information collection requirements.

DATES: The comment date for the proposed rule published November 22, 2010, 75 FR 71064, remains January 6, 2011, and reply comments remain due on or before February 7, 2011.

SUPPLEMENTARY INFORMATION:

Correction

In the Federal Register of November 22, 2010, on page 71064, correct the ADDRESSES caption to read:

ADDRESSES: You may submit comment, identified by IB Docket No. 97-95, by any of the following methods:

Federal eRulemaking Portal: http://www.regulations.gov. Follow the instructions for submitting comments.

Federal Communications Commission's Web Site: http://www.fcc.gov/cgb/ecfs. Follow the instructions for submitting comments.

People with Disabilities: Contact the FCC to request reasonable accommodations (accessible format documents, sign language interpreters, CART, etc.) by e-mail: FCC504@fcc.gov, phone: 202-418-0530 or TTY: 202-418-0432.

For detailed instructions for submitting comments and additional information on the rulemaking process, see the SUPPLEMENTARY INFORMATION section of this document.

In the Federal Register of November 22, 2010, on page 71064-65, correct the “SUPPLEMENTARY INFORMATION” caption to read:

SUPPLEMENTARY INFORMATION: This is a summary of the Commission's Third Notice of Proposed Rulemaking (Third Notice) in IB Docket No. 97-95, adopted October 29, 2010 and released on November 1, 2010. The full text of the Notice of Proposed Rulemaking is available for public inspection and copying during regular business hours at the FCC Reference Information Center, Portals II, 445 12th Street, SW., Room CY-A257, Washington, DC 20554. This document may also be purchased from the Commission's duplicating contractor, Best Copy and Printing, Inc., Portals II, 445 12th Street, SW., Room CY-B402, Washington, DC 20554, telephone (202) 488-5300, facsimile (202) 488-5563, or via e-mail FCC@BCPIWEB.com.

The Third Notice contains potential proposed new or modified information collection requirements subject to the Paperwork Reduction Act (PRA) of 1995, Public Law 104-13 (44 U.S.C. 3501-3520). The Commission invites the general public and the Office of Management and Budget (OMB) to comment on the information collection requirements contained in the Third Notice. These PRA comments are due on or before February 11, 2011. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. If the Commission adopts new or revised information collection requirements, the Commission will publish a separate notice in the Federal Register inviting the public to comment on the requirements before a submission is made to the OMB for approval of the information collection requirements.

In addition, pursuant to the Small Business Paperwork Relief Act of 2002, Public Law 107-198, see 44 U.S.C. 3506(c)(4), the Commission will seek specific comment on how it might “further reduce the information collection burden for small business concerns with fewer than 25 employees.”

Dated: November 23, 2010.
Marlene H. Dortch,
Secretary.

[FR Doc. C1-2010-30984 Filed 12-10-10; 8:45 am]

BILLING CODE 6712-01-P